DEPARTMENT OF JUSTICE

Notice of Lodging of Proposed Consent Decree Under the Resource Conservation and Recovery Act

On January 21, 2022, the Department of Justice lodged a proposed consent decree with the United States District Court for the District of Puerto Rico in the lawsuit entitled United States of America v. To Go Stores, LLC, Civil Action No. 3:22-cv-1038.

The United States filed the complaint in this Resource Conservation and Recovery Act (RCRA) case concurrently with the lodging of the Proposed Consent Decree. The Complaint alleges that Defendant To Go Stores, LLC is civilly liable for violations of regulations promulgated under RCRA Subchapter IX governing underground storage tanks. The complaint alleges that To Go Stores failed to comply with RCRA regulations, as administered by the Puerto Rico Department of Natural and Environmental Resources, for underground storage tanks at 15 gas stations owned and/or operated by To Go Stores in Puerto Rico. The alleged violations include failure to: Adequately monitor for releases; provide adequate spill and overfill prevention equipment; provide and maintain corrosion protection equipment; maintain records; secure monitoring wells; report and investigate suspected releases; and obtain financial assurance.

Under the Proposed Consent Decree, To Go Stores will inspect certain facilities; install new tanks at certain facilities; and install and operate a centralized monitoring system and new release detection equipment, including automatic tank gauging, at 43 facilities in Puerto Rico. To Go Stores will pay a civil penalty of $125,000. The Proposed Consent Decree will resolve all RCRA claims alleged in this action by the United States against To Go Stores.

The publication of this notice opens a period for public comment on the Proposed Consent Decree. Comments should be addressed to the Assistant Attorney General, Environment and Natural Resources Division, Environmental Enforcement Section, and should refer to United States v. To Go Stores, LLC, D.J. Ref. No. 90-7-1-11717. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $8.50 (25 cents per page reproduction cost) payable to the United States Treasury.

Henry Friedman,
Assistant Section Chief, Environmental Enforcement Section, Environment and Natural Resources Division.

[FR Doc. 2022-01504 Filed 1-25-22; 8:45 am]

BILLING CODE 4410-15-P